DEPARTMENT OF THE TREASURY

Internal Revenue Service

26 CFR Part 1

[REG-127819-06]

RIN 1545-BF79

TIPRA Amendments to Section 199

AGENCY: Internal Revenue Service (IRS), Treasury.

ACTION: Cancellation of notice of public hearing on proposed rulemaking by cross-reference to temporary regulations.

SUMMARY: This document cancels a public hearing on proposed regulations by cross-reference to temporary regulations relating to the application of section 199, which provides a deduction for income attributable to domestic production activities.

DATES: The public hearing, originally scheduled for February 5, 2007 at 10 a.m. is cancelled.

FOR FURTHER INFORMATION CONTACT: Kelly Banks of the Publications and Regulations Branch, Legal Processing Division, Associate Chief Counsel (Procedure and Administration) at (202) 622-0392 (not a toll-free number).

SUPPLEMENTARY INFORMATION: A notice of proposed rulemaking by cross-reference to temporary regulations and notice of public hearing that appeared in the Federal Register on Thursday, October 19, 2006 (71 FR 61692), announced that a public hearing was scheduled for February 5, 2007, at 10 a.m. in the IRS Auditorium, New Carrollton Federal Building, 5000 Ellin Road, Lanham, MD 20706. Subsequently, a notice of change of location of public hearing was published in the Federal Register on Tuesday, December 26, 2006, (71 FR 77353) changing the location to the IRS Auditorium, Internal Revenue Building, 1111 Constitution Avenue, NW., Washington, DC. The subject of the public hearing is under section 199 of the Internal Revenue Code.

The public comment period for these regulations expired on January 16, 2007. The notice of proposed rulemaking by cross-reference to temporary regulations and notice of public hearing instructed those interested in testifying at the public hearing to submit a request to speak and an outline of the topics to be addressed. As of Tuesday, January 23, 2007, no one has requested to speak. Therefore, the public hearing scheduled for February 5, 2007, is cancelled.

La Nita VanDyke,
Branch Chief, Publications and Regulations Branch, Legal Processing Division, Associate Chief Counsel (Procedure and Administration).

[FR Doc. 07-356 Filed 1-24-07; 3:31 pm]

BILLING CODE 4830-01-P